FEDERAL MARITIME COMMISSION

Notice of Agreements Filed

The Commission hereby gives notice of the filing of the following agreements under the Shipping Act of 1984. Interested parties can review or obtain copies of agreements at the Washington, DC, offices of the Commission, 800 North Capitol Street, NW., Room 940. Interested parties may submit comments on an agreement to the Secretary, Federal Maritime Commission, Washington, DC 20573, within 10 days of the date this notice appears in the Federal Register.

Agreement No.: 011117-033.

Title: United States/Australasia Discussion Agreement.

Parties: P&O Nedlloyd Limited; Australia-New Zealand Direct Line; Hamburg-Sud; Compagnie Maritime Marfret, S.A.; Wallenius Wilhelmsen Lines AS; CMA CGM, S.A.; Fesco Ocean Management Limited; A.P. Moller-Maersk A/S; and Lykes Lines Limited, LLC.

Synopsis: The amendment deletes language regarding base ports and updates the addresses of two agreement parties.

Agreement No.: 011695-006.

Title: CMA CGM/Norasia Reciprocal Space Charter, Sailing and Cooperative Working Agreement.

Parties: CMA CGM, S.A. and Norasia Container Lines Limited.

Synopsis: The amendment provides for the substitution of a larger vessel for a smaller vessel currently deployed under the agreement. The parties request expedited review.

Agreement No.: 011814-003.

Title: HSDG/King Ocean Space Charter Agreement.

Parties: A.P. Moller-Maersk A/S; Hamburg-Südamerikanische Dampfschifffahrts-Gesellschaft KG; King Ocean Services Limited; and King Ocean Service de Venezuela, S.A.

Synopsis: The amendment revises the agreement to indicate that King Ocean will be providing both vessels, to change the space allocations under the agreement, to delete the Dominican Republic from the geographic scope, to add that Hamburg-Süd has the right to provide a vessel, to reflect the new duration of the agreement, and to delete existing Article 9.3 and replace it with a new provision. The amendment restates the agreement.

Agreement No.: 011852-008.

Title: Maritime Security Discussion Agreement.

Parties: American President Lines, Ltd.; APL Co. Pte Ltd.; Australia-New Zealand Direct Line; China Shipping Container Lines, Co., Ltd.; Canada Maritime; CMA-CGM S.A.; Contship Container Lines; COSCO Container Lines Company, Ltd.; CP Ships (UK) Limited; Evergreen Marine Corp.; Hanjin Shipping Company, Ltd.; Hapag Lloyd Container Linie GmbH; Italia di Navigazione, LLC; Kawasaki Kisen Kaisha Ltd.; Lykes Lines Limited, LLC; A.P. Moller-Maersk A/S, trading under the name of Maersk Sealand; Mitsui O.S.K. Lines, Ltd.; Nippon Yusen Kaisha; Orient Overseas Container Line Limited; Safmarine Container Line, NV; TMM Lines Limited, LLC; Yang Ming Marine Transport Corp.; Zim Israel Navigation Co., Ltd.; Alabama State Port Authority; APM Terminals North America, Inc.; Ceres Terminals, Inc.; Cooper/T. Smith Stevedoring Co., Inc.; Eagle Marine Services Ltd.; Global Terminal & Container Services, Inc.; Howland Hook Container Terminal, Inc.; Husky Terminal & Stevedoring, Inc.; International Shipping Agency; International Transportation Service, Inc.; Lambert's Point Docks Inc.; Long Beach Container Terminal, Inc.; Maersk Pacific Ltd.; Maher Terminals, Inc.; Marine Terminals Corp.; Maryland Port Administration; Massachusetts Port Authority (MASSPORT); Metropolitan Stevedore Co.; P&O Ports North American, Inc.; Port of Tacoma; South Carolina State Ports Authority; Stevedoring Services of America, Inc.; Trans Bay Container Terminal, Inc. TraPac Terminals; Universal Maritime Service Corp.; Virginia International Terminals; and Yusen Terminals, Inc.

Synopsis: The amendment adds Hyundai Merchant Marine Co., Ltd. as a Carrier Class member.

Agreement No.: 011885.

Title: CMA CGM/MSC Reciprocal Space Charter, Sailing and Cooperative Working Agreement.

Parties: CMA CGM, S.A. and Mediterranean Shipping Co. S.A.

Synopsis: The proposed agreement would authorize the establishment of a vessel-sharing agreement between the parties in the trade between U.S. Pacific Coast ports and ports in Asia.

Dated: June 17, 2004.
By Order of the Federal Maritime Commission.
Karen V. Gregory,
Assistant Secretary.

[FR Doc. 04-14136 Filed 6-22-04; 8:45 am]

BILLING CODE 6730-01-P